DEPARTMENT OF AGRICULTURE

Rural Business-Cooperative Service

Notice of Solicitation of Applications for the Rural Energy for America Program for Federal Fiscal Year 2019; Correction

AGENCY: Rural Business-Cooperative Service, USDA.

ACTION: Notice; correction.

SUMMARY: The Rural Business-Cooperative Service (the Agency) published a notice in the Federal Register of August 14, 2018, announcing the acceptance of applications for funds available under the Rural Energy for America Program (REAP) for Fiscal Year (FY) 2019. The 2014 Farm Bill provides funding for the program for FY 2017. This notice provides corrections to: Section V. Application Review Information, subsection B. Review and Selection Process, subparagraphs (1)(c), (1)(d), and (3) to indicate applications received by April 1, 2019.

FOR FURTHER INFORMATION CONTACT: For information about this Notice, please contact Anthony Crooks, Rural Energy Policy Specialist, USDA Rural Development, Energy Division, 1400 Independence Avenue SW, Stop 3225, Room 6870, Washington, DC 20250. Telephone: (202) 205-9322. Email: anthony.crooks@wdc.usda.gov.

SUPPLEMENTARY INFORMATION: In the Federal Register on August 14, 2018 (83 FR 40216), make the following corrections:

Summary of Changes

1. In the second column on page 40221, under Section V. Application Review Information, subsection B. Review and Selection Process, subparagraphs (1)(c) the first sentence is being revised to read as follows:

a. Eligible applications for renewable energy system and energy efficiency improvements, regardless of the amount of the funding request, received by April 1, 2019, can compete for unrestricted grant funds.

2. In the second column on page 40221, under Section V. Application Review Information, subsection B. Review and Selection Process, subparagraphs (1)(d) is being revised to read as follows:

a. National unrestricted grant funds for all eligible renewable energy system and energy efficiency improvements grant applications received by April 1, 2019, which include grants of $20,000 or less, that are not funded by State allocations can be submitted to the National Office to compete against grant applications from other States at a final national competition.

3. In the third column on page 40221, under Section V. Application Review Information, subsection B. Review and Selection Process, subparagraphs (3), the third sentence of the second paragraph, that continues on page 40222 is being revised to read as follows:

a. All unfunded eligible applications for combined grant and guaranteed loan applications that are received by April 1, 2019, and that are not funded by State allocations can be submitted to the National Office to compete against other grant and combined grant and guaranteed loan applications from other States at a final national competition.

Dated: September 11, 2018.
David Foster,
Acting Administrator, Rural Business-Cooperative Service.

[FR Doc. 2018-20119 Filed 9-14-18; 8:45 am]

BILLING CODE 3410-XY-P